DEPARTMENT OF COMMERCE

Foreign-Trade Zones Board

[Order No. 2112]

Designation of New Grantee; Foreign-Trade Zone 156, Hidalgo County, Texas

Pursuant to its authority under the Foreign-Trade Zones Act of June 18, 1934, as amended (19 U.S.C. 81a-81u), the Foreign-Trade Zones Board (the Board) adopts the following Order:

The Foreign-Trade Zones (FTZ) Board (the Board) has considered the application (docketed April 15, 2021) submitted by the City of Weslaco, grantee of FTZ 156, requesting reissuance of the grant of authority for said zone to the Hidalgo County Regional Foreign Trade Zone, which has accepted such reissuance subject to approval by the FTZ Board. Upon review, the Board finds that the requirements of the FTZ Act and the Board's regulations are satisfied, and that the proposal is in the public interest.

Therefore, the Board approves the application and recognizes the Hidalgo County Regional Foreign Trade Zone as the new grantee for Foreign-Trade Zone 156, subject to the FTZ Act and the Board's regulations, including Section 400.13.

Dated: April 30, 2021.
Christian B. Marsh,
Acting Assistant Secretary for Enforcement and Compliance, Alternate Chairman, Foreign-Trade Zones Board.

[FR Doc. 2021-09547 Filed 5-5-21; 8:45 am]

BILLING CODE 3510-DS-P